DEPARTMENT OF ENERGY

Federal Energy Regulatory Commission

[Docket Nos. CP17-66-000; CP17-67-000; PF15-27-000]

Venture Global Plaquemines LNG, LLC and Venture Global Gator Express, LLC; Notice of Application

Take notice that on February 28, 2017, Venture Global Plaquemines LNG, LLC (Plaquemines LNG) and Venture Global Gator Express, LLC (Gator Express Pipeline), 2200 Pennsylvania Ave. NW., Suite 600 West, Washington, DC 20037, filed an application pursuant to sections 3 and 7(c) of the Natural Gas Act (NGA) and Parts 157 and 284 of the Commission's Regulations requesting authority to construct a liquefied natural gas (LNG) export terminal and pipeline facilities located in Plaquemines Parish, Louisiana. Together the proposals are referred to as the Plaquemines LNG and Gator Express Pipeline Project or Project. Specifically, Plaquemines LNG and Gator Express Pipeline request Commission authorization to construct and operate a new LNG export terminal and associated facilities along the west bank of the Mississippi River in Plaquemines Parish, Louisiana (Terminal) and to construct and operate two new 42-inch-diameter natural gas pipeline laterals that will connect the Terminal to the pipeline facilities of Tennessee Gas Pipeline Company and Texas Eastern Transmission. The two parallel and adjacent laterals (11.7 and 15.1 miles long) would be operated at an MAOP of 1,200 pounds per square inch and will be designed to provide firm transportation capacity of approximately 1,970,000 Dt/d to the Terminal. Total cost of the pipeline portion of the project is estimated to be approximately 284 million dollars.

The filing may be viewed on the web at http://www.ferc.gov using the “eLibrary” link. Enter the docket number excluding the last three digits in the docket number field to access the document. For assistance, contact FERC at FERCOnlineSupport@ferc.gov or call toll-free, (886) 208-3676 or TYY, (202) 502-8659.

Any questions concerning this application should be directed to Fory Musser, Senior Vice President, Development, Venture Global LNG, Inc., 2200 Pennsylvania Ave. NW., Suite 600 West, Washington, DC 20037, telephone: (202) 759-6738, facsimile: (202) 331-5054 or email: fmusser@venturegloballng.com.

On July 2, 2015 the Commission granted Plaquemines LNG's request to utilize the Pre-Filing Process and assigned Docket No. PF15-27-000 to staff activities involved in the Project. Now, as of the filing of the March 1 application, the Pre-Filing Process for this project has ended. From this time forward, this proceeding will be conducted in Docket No. CP17-66-000 and CP17-67-000 as noted in the caption of this Notice.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy regulatory Commission, 888 First Street NE., Washington, DC 20426.

Comment Date: 5:00 p.m. Eastern Time on April 3, 2017.

Dated: March 13, 2017.
Nathaniel J. Davis, Sr.,
Deputy Secretary.

[FR Doc. 2017-05671 Filed 3-21-17; 8:45 am]

BILLING CODE 6717-01-P